DEPARTMENT OF AGRICULTURE

Animal and Plant Health Inspection Service

[Docket No. 05-062-2]

University of Kentucky; Availability of an Environmental Assessment and a Finding of No Significant Impact for Field Tests of Genetically Engineered Neotyphodium

AGENCY: Animal and Plant Health Inspection Service, USDA.

ACTION: Notice.

SUMMARY: We are advising the public that the Animal and Plant Health Inspection Service has prepared an environmental assessment for a field trial of genetically engineered strains of an endophytic fungus of perennial ryegrass, Neotyphodium sp. isolate Lp1. The fungi have been genetically engineered to disrupt the ergovaline synthesis pathway. The environmental assessment provides a basis for our conclusion that these field tests will not present a risk of introducing or disseminating a plant pest and will not have a significant impact on the quality of the human environment. Based on its finding of no significant impact, the Animal and Plant Health Inspection Service has determined that an environmental impact statement need not be prepared for these field tests.

DATES: A permit may be issued on or after October 7, 2005.

FOR FURTHER INFORMATION CONTACT: Mr. Michael Blanchette, Biotechnology Regulatory Services, APHIS, 4700 River Road, Unit 147, Riverdale, MD 20737-1236; (301) 734-5141; e-mail: michael.p.blanchette@aphis.usda.gov. To obtain copies of the petition, the environmental assessment (EA), or the finding of no significant impact (FONSI), contact Ms. Ingrid Berlanger at (301) 734-4885; e-mail: ingrid.e.berlanger@aphis.usda.gov. The EA and FONSI are also available on the Internet at: http://www.aphis.usda.gov/brs/aphisdocs/05_15201r_ea.pdf.

SUPPLEMENTARY INFORMATION: The regulations in 7 CFR part 340, “Introduction of Organisms and Products Altered or Produced Through Genetic Engineering Which Are Plant Pests or Which There Is Reason to Believe Are Plant Pests,” regulate, among other things, the introduction (importation, interstate movement, or release into the environment) of organisms and products altered or produced through genetic engineering that are plant pests or that there is reason to believe are plant pests. Such genetically engineered organisms and products are considered “regulated articles.” A permit must be obtained or a notification acknowledged before a regulated article may be introduced. The regulations set forth the permit application requirements and the notification procedures for the importation, interstate movement, or release into the environment of a regulated article.

On June 1, 2005, the Animal and Plant Health Inspection Service (APHIS) received a permit application (APHIS No. 05-152-01r) from the University of Kentucky, Department of Plant Pathology, for a confined field release of two mutant strains of Neotyphodium sp isolate Lp1, which is an endophytic fungus of Lolium perenne (perennial ryegrass). These two mutants were generated by inserting a gene construct containing a hygromycin phosphotransferase gene (hph) into specific genes in the ergovaline synthesis pathway. The literature is obscure regarding the specific donor of the hph gene to the plasmid that was used to create this construct. The identical hph gene has been identified in three bacterial species, Klebsiella sp., Streptomyces hygroscopicus, and Escherichia coli. Expression of the hph gene is regulated by the Neurospora crassa cross-pathway control gene (cpc-1) promoter and a transcription termination sequence from the trpC gene of Aspergillus nidulans.

Strain Lp1-4175 results from an insertion of the hph construct in the dimethylallyltryptophan synthase (dmaW) gene. This strain does not produce ergot alkaloids or clavine mycotoxins that are believed to cause toxicoses to grazing livestock and wildlife. Strain Lp1-981 was generated by an insertion of the hph construct in lysergyl peptide synthetase subunit 1 (lpsA). This line lacks the ability to produce ergovaline and other amides of lysergic acid, but retains the ability to produce clavines and lysergic acid.

Perennial ryegrass plants that have been inoculated with either mutant strain will be planted in the trial for the purpose of increasing seed. The endophyte is only transmitted vertically through seed. Therefore this trial will result in an increase in inoculated seed for future experiments.

On August 12, 2005, we published in the Federal Register (70 FR 47169-47170, Docket No. 05-062-1) a notice announcing the availability, for review and comment, of an environmental assessment (EA) for a field trial of the genetically engineered strains of Neotyphodium sp. isolate Lp1. We solicited comments on the EA for 30 days ending on September 12, 2005. We received eight comments by that date, from an academic professional, a public interest group, and private individuals. All eight commenters expressed concerns about the field trial. Some of the comments criticized the treatment of horizontal gene transfer and acute toxicity in the EA. Others suggested that these types of experiments should only be conducted in a contained facility. APHIS has responded to these comments in an attachment to the finding of no significant impact (FONSI).

Pursuant to its regulations (7 CFR part 340) promulgated under the Plant Protection Act, APHIS has determined that this field trial will not pose a risk of the introduction or dissemination of a plant pest for the following reasons:

1. The test fungi Neotyphodium sp. Lp1 strains Lp1-981 and Lp1-4175 are identical to the untransformed endophyte except for their inability to produce toxic ergot alkaloids.

2. Neotyphodium species are not known as animal or human pathogens, and both it and its sexually transmitted form of the species (Epichloeë sp.) are only found in grasses.

3. Dissemination of Neotyphodium sp. Lp1 strains Lp1-981 and Lp1-4175 will be prevented through physical methods, normal site security, small size of the trials, and cleaning of equipment.

4. The host range of Neotyphodium sp. Lp1 strains Lp1-981 and Lp1-4175 and mode of transmission has not changed.

5. The Neotyphodium sp. Lp1 strains Lp1-981 and Lp1-4175 are expected to be less toxic to herbivores than the untransformed endophyte and therefore should not pose any new dietary threat.

6. The Neotyphodium species has never been associated with animal or human disease and therefore will not pose a risk to human health.

7. Hygromycin B phosphotransferase (from the marker gene) does not confer any plant pest characteristics to Neotyphodium species.

8. Threatened and endangered species in the area are not hosts of Neotyphodium sp. nor do they feed on hosts of these fungi, and therefore will not be affected by the trials.

The EA and the FONSI were prepared in accordance with (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372). Copies of the EA and FONSI are available from the individual listed under FOR FURTHER INFORMATION CONTACT.

Done in Washington, DC, this 3rd day of October 2005.
Elizabeth E. Gaston,
Acting Administrator, Animal and Plant Health Inspection Service.

[FR Doc. 05-20195 Filed 10-6-05; 8:45 am]

BILLING CODE 3410-34-P